DEPARTMENT OF AGRICULTURE

Forest Service

Notice of New Fee Site; Federal Lands Recreation Enhancement Act, (Title VIII, Pub. L. 108-447)

AGENCY: Bighorn National Forest, USDA Forest Service.

ACTION: Notice of new fee site.

SUMMARY: The Bighorn National Forest, Powder River Ranger District, will begin charging a $10.00/vehicle per day use fee for parking at the existing developed trailhead, West Tensleep Trailhead. This trailhead is the most heavily visited access point for the Cloud Peak Wilderness. Funds from the fee will be used for the continued operation and maintenance of this site including, but not limited to: Restroom cleaning, trash pickup, sign maintenance, and law enforcement presence.

DATES: West Tensleep Trailhead will have fees charged beginning in the summer of 2010.

ADDRESSES: Forest Supervisor, Bighorn National Forest, 2013 Eastside 2nd Street, Sheridan, WY 82801.

FOR FURTHER INFORMATION CONTACT: Craig Cope, Powder River Ranger District Recreation Staff Office, 307-684-7806.

SUPPLEMENTARY INFORMATION: The Federal Recreation Lands Enhancement Act (Title VII, Pub.L. 108-447) directed the Secretary of Agriculture to publish a six month advance notice in the Federal Register whenever new recreation fee areas are established.

This new fee will be reviewed by a Recreation Resource Advisory Committee prior to a final decision and implementation.

The Bighorn National Forest currently does not charge for day use parking. The need for charging for parking at West Tensleep Trailhead was identified during the Recreation Facility Analysis process completed in June 2007 and will be $10.00/vehicle day (Standard Amenity Recreation Fee). This trailhead is full to capacity or overflowing the capacity on many summer weekends. All requirements for the collection of fees as stipulated in the Federal Recreation Lands Enhancement Act will be met for this site prior to fee implementation.

Dated: October 26, 2009.
William T. Bass,
Forest Supervisor.

[FR Doc. E9-26300 Filed 11-2-09; 8:45 am]

BILLING CODE 3410-11-M